DEPARTMENT OF COMMERCE

National Oceanic and Atmospheric Administration

Proposed Information Collection; Comment Request; Alaska Pacific Halibut Fisheries: Subsistence

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before May 5, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Gabrielle Aberle, National Marine Fisheries Service, P.O. Box 21668, Juneau, AK, 99802-1668. Telephone (907) 586-7228.

SUPPLEMENTARY INFORMATION:

I. Abstract

The National Marine Fisheries Service (NMFS) is requesting extension of a currently approved information collection for the Alaska Subsistence Halibut Program.

The International Pacific Halibut Commission (IPHC) and NMFS manage fishing for Pacific halibut (Hippoglossus stenolepis) through regulations established under authority of the Northern Pacific Halibut Act of 1982 (Halibut Act). The IPHC promulgates regulations governing the Pacific halibut fishery under the Convention between the United States and Canada for the Preservation of the Halibut Fishery of the North Pacific Ocean and Bering Sea, signed at Ottawa, Ontario, on March 2, 1953, as amended by a Protocol Amending the Convention (signed at Washington, DC, on March 29, 1979). The Halibut Act also authorizes the North Pacific Fishery Management Council to develop halibut fishery regulations, including limited access regulations, in its geographic area of concern that would apply to nationals or vessels of the United States. Regulations governing the subsistence halibut fishery are at 50 CFR 300.2, 300.4, and Subpart E, and in the annual management measures published in the Federal Register pursuant to 50 CFR 300.62.

Subsistence halibut means halibut caught by a rural resident or a member of an Alaska Native tribe for direct personal or family consumption as food, sharing for personal or family consumption as food, or customary trade. The subsistence halibut program is intended to allow eligible persons to practice the long-term customary and traditional harvest of Pacific halibut for food in a non-commercial manner. This program provides NMFS the opportunity to learn more about the subsistence fishery and enhance estimates of subsistence removals for stock assessment purposes.

Before fishing under subsistence halibut regulations, fishermen must obtain a Subsistence Halibut Registration Certificate (SHARC). Special permits for community harvest, ceremonial, and educational purposes are available to qualified Alaska communities and Alaska Native Tribes. NMFS designed the permits to work in conjunction with other halibut harvest assessment measures.

This information collection contains the application for a SHARC; the application for a Community Harvest Permit, a Ceremonial Permit, or an Educational Permit; the harvest logs for community, ceremonial, and educational permits; an appeals process for denied permits; and gear marking requirements for subsistence fishery setline gear. Each of these instruments is designed to minimize the reporting burden on subsistence halibut fishermen while retrieving essential information.

Information collected by the permit applications includes permit holder information or applicant information, and depending on the permit type, may include information on the educational program or a description of the cultural or ceremonial occasion the permit will be used for. NMFS uses this information to determine the eligibility of applicants to receive or renew permits.

The permit coordinators submit the harvest logs for Community Harvest Permits, Ceremonial Permits, and Educational Permits. Harvest logs collect identification information and harvest information for the subsistence fishermen fishing under that permit.

An appeals process is provided for an applicant who receives an adverse initial administrative determination related to their permit application.

Subsistence setline gear buoys must be marked with identification information that consists of the subsistence fisherman's name and address and an “S” to indicate subsistence gear. The ability to link fishing gear to the vessel owner or operator is crucial to enforcement of regulations.

II. Method of Collection

Information is collected primarily via mail. Harvest logs and SHARC applications also may be submitted by fax, and SHARC renewals may be submitted online through eFISH on the NMFS Alaska Region website. The application forms and harvest logs are available as fillable pdfs on the NMFS Alaska Region website. The fishing gear identification information is marked on buoys and is not submitted to NMFS.

III. Data

OMB Control Number: 0648-0512.

Form Number(s): None.

Type of Review: Extension of a current information collection.

Affected Public: Individuals or households; State, Local, or Tribal government.

Estimated Number of Respondents: 7,337.

Estimated Time per Response: Permit applications, 10 minutes; Harvest logs, 30 minutes; Appeal for permit denial, 4 hours; Gear marking, 15 minutes.

Estimated Total Annual Burden Hours: 1,438.

Estimated Total Annual Cost to Public: $25,288.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-04597 Filed 3-5-20; 8:45 am]

BILLING CODE 3510-22-P